NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for Dr. Harry Anderson to conduct a flight from Punta Arenas, Chile to the Chilean base Lieutenant Rodolfo Marsh Martin Aerodrome airport on King George Island where he will land, refuel, and take off for return to Punta Arenas. The application by Dr. Harry Anderson of Bainbridge Island, WA is submitted to NSF pursuant to regulations issued under the Antarctic Conservation Act of 1978.

DATES: Interested parties are invited to submit written data, comments, or views with respect to this permit application within September 7, 2012. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for conduct of a flight of a 2001 Lancair Columbia 300 aircraft (N788W) from Punta Arenas, Chile to the Chilean aerodrome on King George Island. Activities include refueling the aircraft, possible generation of wastes.

Designated pollutants that would be associated with the flight are typically air emissions and waste water (urine and human solid waste. All wastes would be packaged and stored on the aircraft for proper disposal in Chile under approved guidelines after return of the aircraft to Punta Arenas, Chile.

The permit applicant: Harry R. Anderson, Ph.D., Bainbridge Island, Permit application No. 2013 WM-003.

Nadene G. Kennedy,
Permit Officer.

[FR Doc. 2012-19323 Filed 8-7-12; 8:45 am]

BILLING CODE 7555-01-P